DEPARTMENT OF COMMERCE

International Trade Administration

[A-357-822, A-301-804, A-729-804, A-421-814, A-517-806, A-583-868, A-489-842, A-520-809]

Prestressed Concrete Steel Wire Strand From Argentina, Colombia, Egypt, the Netherlands, Saudi Arabia, Taiwan, the Republic of Turkey, and the United Arab Emirates: Final Affirmative Determinations of Sales at Less Than Fair Value and Final Affirmative Critical Circumstances Determinations, in Part

AGENCY: Enforcement and Compliance, International Trade Administration, Department of Commerce.

SUMMARY: The Department of Commerce (Commerce) determines that imports of prestressed concrete steel wire strand (PC strand) from Argentina, Colombia, Egypt, the Netherlands, Saudi Arabia, Taiwan, the Republic of Turkey (Turkey), and the United Arab Emirates (UAE) are being, or are likely to be, sold in the United States at less than fair value (LTFV).

DATES: Applicable December 11, 2020.

FOR FURTHER INFORMATION CONTACT: Kabir Archuletta at (202) 482-2593 (Argentina), Hermes Pinilla at (202) 482-3477 (Colombia), David Crespo at (202) 482-3693 (Egypt), Bryan Hansen at (202) 482-3683 (the Netherlands), Drew Jackson at (202) 482-4406 (Saudi Arabia), Joy Zhang at (202) 482-1168 (Taiwan), David Goldberger at (202) 482-4136 (Turkey), and Charles Doss at (202) 482-4474 (UAE); AD/CVD Operations, Enforcement and Compliance, International Trade Administration, U.S. Department of Commerce, 1401 Constitution Avenue NW, Washington, DC 20230.

SUPPLEMENTARY INFORMATION:

Background

On September 30, 2020, Commerce published in the Federal Register the Preliminary Determinations of sales at LTFV of PC strand from: (1) Argentina, Colombia, Egypt, the Netherlands, Saudi Arabia, Turkey, and the UAE; ¹ and (2) Taiwan.² We invited interested parties to comment on the Preliminary Determinations. Except for PC strand from Turkey, we received no comments from interested parties on the Preliminary Determinations. For PC strand from Turkey, a summary of the events that occurred since Commerce published the Preliminary Determinations, as well as a full discussion of the issues raised by parties for the final determination, may be found in the Turkey Issues and Decision Memorandum.³

¹ See Prestressed Concrete Steel Wire Strand from Argentina, Colombia, Egypt, the Netherlands, Saudi Arabia, the Republic of Turkey, and the United Arab Emirates: Preliminary Affirmative Determinations of Sales at Less than Fair Value and Preliminary Affirmative Critical Circumstances Determinations, in Part, 85 FR 61722 (September 30, 2020) (Seven Countries Preliminary Determinations).

² See Prestressed Concrete Steel Wire Strand from Taiwan: Preliminary Affirmative Determination of Sales at Less Than Fair Value and Negative Preliminary Determination of Critical Circumstances, 85 FR 61726 (September 30, 2020) (Taiwan Preliminary Determination) (collectively, Preliminary Determinations).

³ See Memorandum, “Issues and Decision Memorandum for the Final Affirmative Determination in the Less-Than-Fair-Value Investigation of PC Strand from Turkey,” dated concurrently with, and hereby adopted by, this notice (Turkey Issues and Decision Memorandum).

Period of Investigation

The period of investigation is April 1, 2019 through March 31, 2020.

Scope of the Investigations

The product covered by these investigations is PC strand. For a full description of the scope of these investigations, see Appendix I of this notice.

Changes Since the Preliminary Determinations

Because we received no comments, we have made no changes to our calculations with regards to Argentina, Colombia, Egypt, the Netherlands, Saudi Arabia, UAE, and Taiwan. We have considered the comments received in the PC strand from Turkey investigation, but have made no changes to our calculations for the final determination. In addition, for the final determination we have revised our critical circumstances determination with respect to Celik Halat ve Tel Sanayi A.S. (Celik Halat). See “Final Affirmative Determinations of Critical Circumstances,” below.

Analysis of Comments Received

All issues raised in the case and rebuttal briefs submitted by parties in the PC strand from Turkey investigation are addressed in the Turkey Issues and Decision Memorandum accompanying this notice. A list of the issues addressed in the Turkey Issues and Decision Memorandum is attached to this notice as Appendix II. The Turkey Issues and Decision Memorandum is a public document and is on file electronically via Enforcement and Compliance's Antidumping and Countervailing Duty Centralized Electronic Service System (ACCESS). ACCESS is available to registered users at https://access.trade.gov. In addition, a complete version of the Turkey Issues and Decision Memorandum can be accessed directly at http://enforcement.trade.gov/frn/. The signed and electronic versions of the Turkey Issues and Decision Memorandum are identical in content.

Final Affirmative Determinations of Critical Circumstances

For the Preliminary Determinations, in accordance with section 733(e)(1) of the Tariff Act of 1930, as amended (the Act) and 19 CFR 351.206(c)(1), Commerce found that critical circumstances exist with respect to imports of PC strand exported by: (1) Knight S.A.S. from Colombia; (2) United Wires Company Elsewedy (United Wires) and all other producers/exporters from Egypt; (3) Nedri Spanstaal BV from the Netherlands; and (4) Celik Halat, Güney Çelik Hasir ve Demir (Güney Celik), and all other producers/exporters from Turkey.⁴

⁴ See Seven Countries Preliminary Determinations, 85 FR at 61723.

Our determinations of critical circumstances are unchanged for the final determinations, except with respect to Celik Halat.⁵ Accordingly, pursuant to section 735(a)(3) of the Act and 19 CFR 351.206, we continue to find that critical circumstances exist for: (1) Knight S.A.S. from Colombia; (2) United Wires and all other producers/exporters from Egypt; (3) Nedri Spanstaal BV from the Netherlands; and (4) Güney Celik and all other producers/exporters from Turkey.

⁵ See Turkey Issues and Decision Memorandum at 2; and Memorandum, “Final Determination Critical Circumstances Analysis,” dated concurrently with this memorandum.

All-Others Rates

As discussed in the Preliminary Determinations, Commerce based the all-others rate for each country on the alleged dumping margin from the petition applicable to each country, in accordance with section 735(c)(5)(A) of the Act.⁶ We made no changes to the selection of the all-others rates for these final determinations.

⁶ See Seven Countries Preliminary Determinations, 85 FR at 61723-24; and Taiwan Preliminary Determination, 85 FR at 61726.

Final Determinations

Commerce determines that the estimated dumping margins are as follows:

Argentina
Exporter/producer | Dumping margin (percent)
Acindar Industria (Argentina) de Sinal S.A. | 60.40
All Others | 60.40

Colombia
Exporter/Producer | Dumping margin (percent)
Knight S.A.S. | 86.09
All Others | 86.09

Egypt
Exporter/producer | Dumping margin (percent)
United Wires Company Elsewedy | 29.72
All Others | 29.72

The Netherlands
Exporter/producer | Dumping margin (percent)
Nedri Spanstaal BV | 30.86
All Others | 30.86

Saudi Arabia
Exporter/producer | Dumping margin (percent)
National Metal Manufacturing & Casting Co. | 194.40
All Others | 194.40

Taiwan
Exporter/producer | Dumping margin (percent)
Chia Ta World Co., Ltd. | 23.89
All Others | 23.89

Turkey
Exporter/producer | Dumping margin (percent)
Celik Halat ve Tel Sanayi A.S. | 53.65
Güney Çelik Hasir ve Demir | 53.65
All Others | 53.65

United Arab Emirates
Exporter/producer | Dumping margin (percent)
GSS International Trading FZE | 170.65
Gulf Steel Strands FZE | 170.65
All Others | 170.65

Disclosure

Normally, Commerce discloses to interested parties the calculations performed in connection with a final determination, in accordance with 19 CFR 351.224(b). However, because Commerce applied AFA to each mandatory respondent in these investigations, in accordance with section 776 of the Act, there are no calculations to disclose.

Continuation of Suspension of Liquidation

In accordance with section 735(c)(1)(B) of the Act, Commerce will instruct U.S. Customs and Border Protection (CBP) to continue to suspend liquidation of all entries of PC strand from Argentina, Colombia, Egypt, the Netherlands, Saudi Arabia, Taiwan, Turkey, and the UAE, as described in the “Scope of the Investigations” in Appendix I, which entered, or were withdrawn from warehouse, for consumption on or after the date of publication of the Preliminary Determinations.

In accordance with section 733(e)(2)(A) of the Act, suspension of liquidation of PC strand from Colombia, Egypt, the Netherlands, and Turkey as described in the “Scope of the Investigations” in Appendix I, shall continue to apply to unliquidated entries of PC strand exported by: (1) Knight S.A.S. from Colombia; (2) United Wires and all other producers/exporters from Egypt; (3) Nedri Spanstaal BV from the Netherlands; and (4) Güney Celik and all other producers/exporters from Turkey,⁷ which entered, or were withdrawn from warehouse, for consumption on or after July 2, 2020, which is 90 days prior to the date of publication of the Preliminary Determinations.

⁷ Because we are making a negative final determination of critical circumstances for Celik Halat, we will instruct CBP to terminate suspension of liquidation, and release any cash deposits on merchandise which was entered, or withdrawn from warehouse, during the 90 day period prior to the date of publication of the Preliminary Determinations.

Pursuant to section 735(c)(1)(B)(ii) of the Act and 19 CFR 351.210(d), we will instruct CBP to require a cash deposit for such entries of merchandise equal to the estimated dumping margin as follows: (1) The cash deposit rate for the company listed in the tables above will be equal to the company-specific estimated dumping margin identified for that company in the table; (2) if the exporter is not a company identified above, but the producer is, then the cash deposit rate will be equal to the company-specific estimated dumping margin established for that producer of the subject merchandise; and (3) the cash deposit rate for all other producers and exporters will be equal to the all-others estimated dumping margin. These suspension of liquidation instructions will remain in effect until further notice.

International Trade Commission Notification

In accordance with section 735(d) of the Act, we will notify the International Trade Commission (ITC) of the final affirmative determinations of sales at LTFV. Because Commerce's final determinations are affirmative, in accordance with section 735(b)(2) of the Act, the ITC will make its final determinations as to whether the domestic industry in the United States is materially injured, or threatened with material injury, by reason of imports, or sales (or the likelihood of sales) for importation of PC strand from Argentina, Colombia, Egypt, the Netherlands, Saudi Arabia, Taiwan, Turkey, and the UAE no later than 45 days after these final determinations. If the ITC determines that such injury does not exist, these proceedings will be terminated, and all cash deposits will be refunded. If the ITC determines that such injury does exist, Commerce will issue antidumping duty orders directing CBP to assess, upon further instruction by Commerce, antidumping duties on all imports of the subject merchandise entered, or withdrawn from warehouse, for consumption on or after the effective date of the suspension of liquidation, as discussed above in the “Continuation of Suspension of Liquidation” section.

Notification Regarding Administrative Protective Orders

This notice serves as a reminder to parties subject to an administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

Notification to Interested Parties

These determinations are issued and published pursuant to sections 735(d) and 777(i)(1) of the Act, and 19 CFR 351.210(c).

Dated: December 7, 2020.
Jeffrey I. Kessler,
Assistant Secretary for Enforcement and Compliance.

Appendix I

Scope of the Investigations

The merchandise covered by these investigations is prestressed concrete steel wire strand (PC strand), produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft2 standard set forth in ASTM-A-475.

The PC strand subject to these investigations is currently classifiable under subheadings 7312.10.3010 and 7312.10.3012 of the Harmonized Tariff Schedule of the United States (HTSUS). Although the HTSUS subheadings are provided for convenience and customs purposes, the written description of the scope of these investigations is dispositive.

Appendix II

List of Topics Discussed in the Turkey Issues and Decision Memorandum

I. Summary

II. Background

III. Final Affirmative Determination of Critical Circumstances, In Part

IV. Discussion of the Issues

V. Recommendation

[FR Doc. 2020-27311 Filed 12-10-20; 8:45 am]

BILLING CODE 3510-DS-P